DEPARTMENT OF LABOR

Employment and Training Administration

[TA-W-51,788]

ASF—Keystone, Inc., Alliance, Ohio; Notice of Termination of Certification

This notice terminates the Certification Regarding Eligibility to Apply for Worker Adjustment Assistance issued by the Department on January 22, 2002 for all workers of ASF—Keystone, Inc., Alliance, Ohio. The notice was published in the Federal Register on June 19, 2003 (68 FR 36847).

The Department, at the request of the State Agency, reviewed this certification for workers of the aforementioned group.

The certification review revealed that the petitioning group of workers is covered by an active certification (TA-W-39,744) issued on January 22, 2002.

Since the workers of ASF—Keystone, Inc., Alliance, Ohio are currently under certification, the investigation of TA-W-51,788 was conducted erroneously and the certification is thus invalid. Workers at ASF—Keystone, Inc., Alliance, Ohio continue to be eligible to apply for benefits of the TA-W-39,744 Trade Adjustment Assistance certification which remains in effect until January 22, 2004.

The certification issued under investigation TA-W-51,788 has been terminated.

Signed at Washington, DC, this 16th day of July, 2003.
Richard Church,
Certifying Officer, Division of Trade Adjustment Assistance.

[FR Doc. 03-18817 Filed 7-23-03; 8:45 am]

BILLING CODE 4510-30-P